DEPARTMENT OF COMMERCE

National Oceanic and Atmospheric Administration

[I.D. 070506D]

RIN 0648-AU25

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Regional Administrator, Southwest Region, NMFS has made a preliminary determination that an application for an exempted fishing permit (EFP) warrants further consideration. The application was submitted to NMFS by the Federation of Independent Seafood Harvesters (FISH), requesting an exemption from the fishing prohibitions within the Pacific Leatherback Conservation Area in the exclusive economic zone (EEZ) off California and Oregon. The Regional Administrator has also made a preliminary determination that the activities authorized under the EFP would be consistent with the goals and objectives of the Highly Migratory Species (HMS) Fishery Management Plan (FMP). However, further review and consultation is necessary before a final determination is made to issue the EFP. Therefore, NMFS proposes to review the EFP and requests public comment on the application.

DATES: Comments must be received by August 10, 2006.

ADDRESSES: You may submit comments on this notice, identified by “I.D. 070506D” by any of the following methods:

• E-mail: 0648-AU25.SWR@noaa.gov. Include the I.D. number in the subject line of the message.

• Mail: Rodney R. McInnis, Regional Administrator, Southwest Region, NMFS, 501 West Ocean Blvd., Suite 4200, Long Beach, CA 90802-4213.

• Fax: (562) 980-4047.

FOR FURTHER INFORMATION CONTACT: Mark Helvey, Southwest Region, NMFS, (562) 980-4040.

SUPPLEMENTARY INFORMATION: An application for an EFP was submitted by FISH on April 16, 2006. The EFP would exempt a limited number of drift gillnet federally permitted commercial fishing vessels from the following requirement of the FMP: prohibition on fishing drift gillnet gear from August 15 through November 15 in the area as specified at 50 CFR 660.713(c)(1).

At its June 2005 meeting, the Council directed its HMS Management Team (MT) and HMS Advisory Subpanel (AS) to begin developing proposals to change the Federal regulatory structure for the drift gillnet (DGN) fishery. It was determined that there was insufficient information available to support a regulatory amendment eliminating the Pacific leatherback conservation area closure. FISH applied for an EFP that is intended as a means to gather information under controlled conditions, specifically about levels of fishing effort that would occur and the impact of that fishing to leatherback sea turtles. The HMS MT developed a suite of alternatives for the EFP and prepared a draft Environmental Assessment (EA). In March 2006, the Council adopted a preferred alternative for conditioning the EFP and forwarded that alternative to NMFS, recommending that the agency review the proposed EFP and, if consistent with Federal law, issue the permit.

The EFP would authorize approximately 30 vessels to fish from August 15, 2006, to November 15, 2006, in an area off the U.S. West Coast of California and Oregon defined as the Pacific Leatherback Conservation Area within the Federal EEZ. The EFP would allow a maximum of 300 DGN sets, and would require 100 percent observer coverage for all fishing under the EFP. The fishery would be managed through limits on the amount of incidental take of protected species. The proposed EFP would impose a limit of two leatherback sea turtles that may be incidentally taken during the course of fishing under the EFP and limit to one the number of serious injuries or mortalities to humpback whale (Megaptera novaeangliae), short-finned pilot whale (Globicephala macrorhynchus), or sperm whale (Physeter macrocephalus). If any one of these limits is reached by the fishery authorized by the EFP, the EFP would be immediately revoked.

Aside from the exemption described above, vessels fishing under the EFP would be subject to all other regulations implementing the HMS FMP, including measures to protect sea turtles, marine mammals, and sea birds.

The EFP application is for 2006 only. The applicant has requested preliminary consideration by the Council of a similar EFP fishery in 2007. Pending results of the 2006 EFP fishery, the EFP may be renewed in 2007, however a final decision will not be made until summer of 2007.

In accordance with NOAA Administrative Order 216-6, an appropriate National Environmental Policy Act document will be completed prior to the issuance of the EFP. A draft EA on the EFP was presented to the Council and public in March 2006. Further review and consultation is necessary before a final determination is made to issue the EFP. As required in Section 7(a)(2) of the Endangered Species Act (16 U.S.C. § 1531 et seq.), NMFS is engaged in formal consultation to determine if the proposed action is likely to jeopardize the continued existence and recovery of any endangered or threatened species or result in the destruction or adverse modification of critical habitat.

Authority: 16 U.S.C. 1801 et seq.

Dated: July 6, 2006.
James P. Burgess,
Acting Director, Office of Sustainable Fisheries, National Marine Fisheries Service.

[FR Doc. E6-10770 Filed 7-10-06; 8:45 am]

BILLING CODE 3510-22-S